DEPARTMENT OF ENERGY

Federal Energy Regulatory Commission

Sunshine Act: Notice of Meeting

January 9, 2002.

The following notice of meeting is published pursuant to section 3(a) of the Government in the Sunshine Act (Pub. L. No. 94-409), 5 U.S.C 552B:

Agency Holding Meeting: Federal Energy Regulatory Commission.

Date and Time: January 16, 2002, 10:00 a.m.

Place: Room 2C, 888 First Street, NE., Washington, DC 20426.

Status: Open.

Matters to be considered: Agenda,

* Note— Items Listed on the Agenda May Be Deleted Without Further Notice.

Contact person for more information: C.B. Spencer, Acting Secretary, Telephone (202) 208-0400, for a Recording Listing Items Stricken From or Added to the Meeting, Call (202) 208-1627.

This is a list of matters to be considered by the commission. It does not include a listing of all papers relevant to the items on the agenda; however, all public documents may be examined in the reference and information center.

781st—Meeting January 16, 2002, Regular Meeting, 10:00 a.m.

Administrative Agenda

A-1.

Docket# AD02-1, 000, Agency Administrative Matters

A-2.

Docket# AD02-7, 000, Customer Matters, Reliability, Security and Market Operations

Markets, Tariffs and Rates—Electric

E-1.

Docket# AD02-6, 000, Infrastructure Discussion in the Northeast

E-2.

Omitted

E-3.

Docket# ER02-407, 000, Geysers Power Company, LLC

E-4.

Omitted

E-5.

Docket# QF87-492, 003, American Ref-Fuel Company of Delaware Valley, L.P.

E-6.

Docket# ER00-1379, 000, Ameren Services Company

Other#s ER00-1386, 000, Ameren Services Company

ER00-2068, 000, Ameren Services Company

ER00-2361, 000, Ameren Services Company

ER00-2365, 000, Ameren Services Company

ER00-2365, 001, Ameren Services Company

ER01-1969, 000, Ameren Services Company

E-7.

Docket# ER02-371, 000, American Electric Power Service Corporation

E-8.

Omitted

E-9.

Docket# TX02-1, 000, Pinnacle West Capital Corporation

E-10.

Docket# TX97-8, 000, PECO Energy Company

E-11.

Docket# TX98-2, 000, Public Service Company of Colorado

E-12.

Docket# ER99-4392, 001, Southwest Power Pool, Inc.

E-13.

Omitted

E-14.

Docket# ER02-146, 000, CalPeak Power-Panoche LLC

Other#s ER02-147, 000, CalPeak Power-Vaca Dixon LLC

ER02-148, 000, CalPeak Power-Enterprise LLC

ER02-149, 000, CalPeak Power-Border LLC

E-15.

Docket# ER02-381, 000, Southwestern Electric Power Company

E-16.

Omitted

E-17.

Docket# ER02-394, 000, International Transmission Company

E-18.

Omitted

E-19.

Docket# EL00-62, 037, ISO New England, Inc.

E-20.

Docket# EL01-89, 001, Morgan Stanley Capital Group Inc. v. California Independent System Operator Corporation

Miscellaneous Agenda

M-1.

Reserved

Markets, Tariffs and Rates—Gas

G-1.

Docket# RP99-301, 035, ANR Pipeline Company

G-2.

Docket# RP01-190, 000, Kern River Gas Transmission Company

G-3.

Omitted

G-4.

Docket# RP02-85, 000, Tennessee Gas Pipeline Company

Other#s RP02-114, 000, Tennessee Gas Pipeline Company

G-5.

Docket# RP01-292, 000, Mississippi River Transmission Corporation

Other#s TM00-1-25, 000, Mississippi River Transmission Corporation

TM00-1-25, 001, Mississippi River Transmission Corporation

TM00-1-25, 002, Mississippi River Transmission Corporation

TM00-1-25, 003, Mississippi River Transmission Corporation

TM00-1-25, 004, Mississippi River Transmission Corporation

TM00-1-25, 005, Mississippi River Transmission Corporation

TM00-1-25, 006, Mississippi River Transmission Corporation

TM00-1-25, 007, Mississippi River Transmission Corporation

TM00-1-25, 008, Mississippi River Transmission Corporation

RP01-292, 001, Mississippi River Transmission Corporation

RP01-292, 002, Mississippi River Transmission Corporation

RP01-292, 003, Mississippi River Transmission Corporation

RP01-292, 004, Mississippi River Transmission Corporation

RP01-292, 005, Mississippi River Transmission Corporation

G-6.

Omitted

G-7.

Omitted

G-8.

Docket# RP00-325, 006, Colorado Interstate Gas Company

Other#s RP01-38, 003, Colorado Interstate Gas Company

G-9.

Omitted

G-10.

Docket# RM01-9, 000, Reporting of Natural Gas Sales to the California Market

G-11.

Docket# PR01-15, 001, Green Canyon Pipe Line Company, L.P.

G-12.

Docket# RP00-390, 003, Granite State Gas Transmission, Inc.

Other#s RP00-390, 002, Granite State Gas Transmission, Inc.

Energy Projects—Hydro

H-1.

Omitted

H-2.

Docket# AD02-8, 000, Third Report to Congress on Appropriateness of Statutory Limit on Government Dam Annual Charges under Section 10(e) of the Federal Power Act

H-3.

Omitted

H-4.

Docket# P-2216, 056, New York Power Authority

H-5.

Docket# P-2107, 011, Pacific Gas and Electric Company

Energy Projects—Certificates

C-1.

Docket# CP01-94, 000, Nornew Energy Supply, Inc. and Norse Pipeline, L.L.C.

Other#s CP01-95, 000, Nornew Energy Supply, Inc.

CP01-96, 000, Nornew Energy Supply, Inc.

CP01-97, 000, Nornew Energy Supply, Inc. and Norse Pipeline, L.L.C.

C-2.

Docket# CP02-10, 000, Transcontinental Gas Pipe Line Corporation

C-3.

Docket# CP01-442, 000, Black Marlin Pipeline Company, MCNIC Black Marlin Offshore Company and WBI Offshore Pipeline, Inc.

Other#s CP00-140, 000, Black Marlin Pipeline Company, MCNIC Black Marlin Offshore Company and WBI Offshore Pipeline, Inc.

C-4.

Docket# CP01-22, 002, North Baja Pipeline LLC

Other#s CP01-23, 000, North Baja Pipeline LLC

CP01-24, 000, North Baja Pipeline LLC

CP01-25, 000, North Baja Pipeline LLC

CP01-22, 000, North Baja Pipeline LLC

C-5.

Omitted

C-6.

Docket# CP01-80, 001, East Tennessee Natural Gas Company

C.B. Spencer,
Acting Secretary.

[FR Doc. 02-844 Filed 1-9-02; 11:00 am]

BILLING CODE 6717-01-P